DEPARTMENT OF DEFENSE

Department of the Army; Corps of Engineers

Inland Waterways Users Board

AGENCY: Department of the Army, U.S. Army Corps of Engineers, DoD.

ACTION: Notice of open meeting.

SUMMARY: In Accordance with 10(a)(2) of the Federal Advisory Committee Act (Pub. L. 92-463), announcement is made of the forthcoming meeting.

Name of Committee: Inland Waterways Users Board (Board).

Date: December 19, 2012.

Location: The Julian Carroll Convention Center at the Paducah McCracken County Convention and Expo Center, 414 Park Street, Paducah, Kentucky 42001 at 270-408-1346 or Info@paducahconventions.com, with accommodations at the Fairfield Inn and Suites Paducah, 3950 Coleman Crossing Circle, Paducah, Kentucky 42001 at 270-442-1700.

Time: Registration will begin at 8:30 a.m. and the meeting is scheduled to adjourn at approximately 1:00 p.m.

Agenda: The agenda will include the status of funding for inland navigation projects and studies and the status of the Inland Waterways Trust Fund, the funding status for Fiscal Year (FY) 2013, status of the Olmsted Locks and Dam Project, the Board's annual report for 2012 and the project investment recommendations, along with updates of the Inland Marine Transportation System (IMTS) Levels of Service and the Impacts of Low Water on the Inland Waterways System.

FOR FURTHER INFORMATION CONTACT: Mr. Mark R. Pointon, Institute for Water Resources, U.S. Army Corps of Engineers, CEIWR-GM, 7701 Telegraph Road, Casey Building, Alexandria, Virginia 22315-3868; Ph: 703-428-6438.

SUPPLEMENTARY INFORMATION: The meeting is open to the public. Any interested person may attend, appear before, or file statements with the committee at the time and in the manner permitted by the committee.

Brenda S. Bowen,
Army Federal Register Liaison Officer.

[FR Doc. 2012-27986 Filed 11-16-12; 8:45 am]

BILLING CODE 3720-58-P